NATIONAL AERONAUTICS AND SPACE ADMINISTRATION

48 CFR Parts 1847 and 1852

RIN 2700-AC33

Shipment by Government Bills of Lading

AGENCY: National Aeronautics and Space Administration (NASA).

ACTION: Interim rule.

SUMMARY: This is an interim rule amending the NASA FAR Supplement (NFS) to specify that shipment by Government Bills of Lading (GBLs) may only be used to ship international and domestic overseas items deliverable under contracts. All other shipments shall be made via Commercial Bills of Lading (CBLs).

DATES: Effective Date: This interim rule is effective June 6, 2002.

Applicability Date: This amendment applies to all contracts awarded on or after the effective date.

Comment Date: Comments should be submitted to NASA at the address below on or before August 5, 2002, to be considered in the formulation of a final rule.

ADDRESSES: Interested parties should submit written comments to Lou Becker, NASA Headquarters, Office of Procurement, Contract Management Division (Code HK), Washington, DC 20546. Comments may also be submitted by e-mail to lbecker@hq.nasa.gov.

FOR FURTHER INFORMATION CONTACT: Lou Becker, (202) 358-4593, or lbecker@hq.nasa.gov.

SUPPLEMENTARY INFORMATION:

A. Background

Effective March 31, 2002, the General Services Administration (GSA) is retiring the use of Optional Form 1103, U.S. Government Bill of Lading (GBL) and Optional Form 1203, U.S. Government Bill of Lading—Privately Owned Personal Property (PPGBL) for domestic shipments. This interim rule amends the NFS to comply with Federal Management Regulation (FMR) Part 102-117 (41 CFR 102-117), Transportation Management, published in the Federal Register on October 6, 2000 (65 FR 60060), and FMR Part 102-118 (41 CFR 102-118), Transportation Payment and Audit, published in the Federal Register on April 26, 2000 (65 FR 24568). NASA clause 1852.247-73 is revised to change the title to “Bills of Lading,” and indicate that GBLs may only be used to ship international and domestic overseas items deliverable under contracts, and all other domestic shipments shall be made via Commercial Bills of Lading (CBL).

This is not a significant regulatory action and, therefore, was not subject to review under Section 6(b) of Executive Order 12866, Regulatory Planning and Review, dated September 30, 1993. This interim rule is not a major rule under 5 U.S.C. 804.

B. Regulatory Flexibility Act

NASA certifies that this interim rule will not have a significant economic impact on a substantial number of small entities within the meaning of the Regulatory Flexibility Act (5 U.S.C. 601 et seq.) because the change only affects contracts where the point of delivery for domestic shipments of items deliverable under a contract is f.o.b. origin.

C. Paperwork Reduction Act

The Paperwork Reduction Act, 44 U.S.C. 3501 et seq., does not apply because the changes to the NFS do not impose recordkeeping or information collection requirements, or collections of information for offerors, contractors, or members of the public which require the approval of the Office of Management and Budget.

D. Determination To Issue an Interim Rule

A determination has been made under the authority of the Administrator of the National Aeronautics and Space Administration (NASA) that urgent and compelling reasons exist to promulgate this interim rule without prior opportunity for public comment. This action is necessary to amend shipping instructions that are now obsolete as a result of changes to the Federal Management Regulation (FMR) Part 102-117 (41 CFR 102-117), Transportation Management, published in the Federal Register on October 6, 2000 (65 FR 60060), and FMR Part 102-118 (41 CFR 102-118), Transportation Payment and Audit, published in the Federal Register on April 26, 2000 (65 FR 24568).

List of Subjects in 48 CFR Parts 1847 and 1852

Government Procurement.

Scott Thompson,
Acting Assistant Administrator for Procurement.

Accordingly, 48 CFR Parts 1847 and 1852 are amended as follows:

1. The authority citation of 48 CFR Parts 1847 and 1852 continues to read as follows:

Authority: 42 U.S.C. 2473(c)(1).

PART 1847—TRANSPORTATION

2. In section 1847.305-70, revise paragraph (b) to read as follows:

1847.305-70 NASA contract clauses.

* * * * *

(b) The contracting officer shall insert a clause substantially as stated at 1852.247-73, Bills of Lading, in f.o.b. origin solicitations and contracts.

PART 1852—SOLICITATION PROVISIONS AND CONTRACT CLAUSES

3. Revise section 1852.247-73 to read as follows:

1852.247-73 Bills of Lading.

As prescribed in 1847.305-70(b), insert a clause substantially as follows:

Bills of Lading (JUN 2002)

The purpose of this clause is to define when a commercial bill of lading or a government bill of lading is to be used when shipments of deliverable items under this contract are f.o.b. origin.

(a) Commercial Bills of Lading. All domestic shipments shall be made via commercial bills of lading (CBLs). The Contractor shall prepay domestic transportation charges. The Government shall reimburse the Contractor for these charges if they are added to the invoice as a separate line item supported by the paid freight receipts. If paid receipts in support of the invoice are not obtainable, a statement as described below must be completed, signed by an authorized company representative, and attached to the invoice.

“I certify that the shipments identified below have been made, transportation charges have been paid by (company name), and paid freight or comparable receipts are not obtainable.

Contract or Order Number: ___

Destination: ___”.

(b) Government Bills of Lading. (1) International (export) and domestic overseas shipments of items deliverable under this contract shall be made by Government bills of lading (GBLs). As used in this clause, “domestic overseas” means non-continental United States, i.e. Hawaii, Commonwealth of Puerto Rico, and possessions of the United States.

(2) At least 15 days before shipment, the Contractor shall request in writing GBLs from: ___ [Insert name, title, and mailing address of designated transportation officer or other official delegated responsibility for GBLs]. If time is limited, requests may be by telephone: ___ [Insert appropriate telephone number]. Requests for GBLs shall include the following information.

(i) Item identification/ description.

(ii) Origin and destination.

(iii) Individual and total weights.

(iv) Dimensional Weight.

(v) Dimensions and total cubic footage.

(vi) Total number of pieces.

(vii) Total dollar value.

(viii) Other pertinent data.

(End of clause)

[FR Doc. 02-14161 Filed 6-5-02; 8:45 am]

BILLING CODE 7510-01-P